DEPARTMENT OF THE INTERIOR

Minerals Management Service (MMS)

Notice of Availability (NOA) of Final Programmatic Environmental Assessment (EA) for the Coastal Impact Assistance Program (CIAP)

AGENCY: Minerals Management Service, Department of the Interior.

ACTION: NOA of Programmatic Environmental Assessment and Finding of No Significant Impact (FONSI).

SUMMARY: The Minerals Management Service (MMS) has prepared a programmatic EA and a FONSI for the implementation of the CIAP. This EA was prepared to assist agency planning and decisionmaking in future assessment of individual projects (40 CFR 1501.3(b)). The programmatic EA is available on the MMS Web site at: http://www.mms.gov/offshore/CIAPmain.htm.

FOR FURTHER INFORMATION CONTACT: Mr. James F. Bennett, Chief, Branch of Environmental Assessment, Minerals Management Service, 381 Elden Street, Mail Stop 4042, Herndon, Virginia, 20170. Telephone: (703) 787-1660, jf.bennett@mms.gov.

Dated: April 13, 2007.
Chris C. Oynes,
Associate Director for Offshore Minerals Management.

[FR Doc. E7-9337 Filed 5-15-07; 8:45 am]

BILLING CODE 4310-MR-P